COMMISSION ON CIVIL RIGHTS

Sunshine Act Meetings

AGENCY: United States Commission on Civil Rights.

ACTION: Notice of Commission public business meeting.

DATES: Friday, January 17, 2025, 10:00 a.m. EST.

ADDRESSES: Meeting to take place by telephone and is open to the public via livestream on the Commission's YouTube page: https://www.youtube.com/user/USCCR/videos.

FOR FURTHER INFORMATION CONTACT: Joe Kim: 202-376-7700; publicaffairs@usccr.gov.

SUPPLEMENTARY INFORMATION: In accordance with the Government in Sunshine Act (5 U.S.C. 552b), the Commission on Civil Rights is holding a meeting to discuss the Commission's business for the month of January. This business meeting is open to the public. Computer assisted real-time transcription (CART) will be provided. The web link to access CART (in English) on Friday, January 17, 2025, is https://www.streamtext.net/player?event=USCCR. Please note that CART is text-only translation that occurs in real time during the meeting and is not an exact transcript.

Meeting Agenda

I. Approval of Agenda

II. Business Meeting

A. Discussion and Vote on FY 2025 Topic for USCCR Briefing Report on Mental Health Juvenile Justice

B. Discussion and Vote FY 2026 Topic for USCCR Statutory Enforcement Report on Antisemitism on College Campuses

C. Discussion and Vote on Report: The Federal Role in Enforcing Religious Freedoms in Prisons

D. Management and Operations

• Staff Director's Report

III. Adjourn Meeting

Dated: January 10, 2025.
David Mussatt,
USCCR Chief Regional Programs Unit.

[FR Doc. 2025-00751 Filed 1-10-25; 11:15 am]

BILLING CODE 6335-01-P